SECURITIES AND EXCHANGE COMMISSION

Sunshine Act Meeting

Federal Register Citation of Previous Announcement: [67 FR 20194, April 24, 2002].

Status: Closed Meeting.

Place: 450 Fifth Street, NW, Washington, DC.

Date and Time of Previously Announced Meeting: Wednesday, April 24, 2002, at 9:30 a.m.

Change in the Meeting: Additional Item.

The following item was added to the closed meeting held on Wednesday, April 24, 2002: an adjudicatory matter.

Commissioner Hunt, as duty officer, determined that Commission business required the above change and that no earlier notice thereof was possible.

For further information please contact the Office of the Secretary at (202) 942-7070.

Dated: April 29, 2002.
Margaret H. McFarland,
Deputy Secretary.

[FR Doc. 02-10974 Filed 4-29-02; 4:53 pm]

BILLING CODE 8010-01-P